DEPARTMENT OF ENERGY

Federal Energy Regulatory Commission

[Docket No. CP06-17-000]

Colorado Interstate Gas Company; Notice of Intent To Prepare an Environmental Assessment for the Proposed Sanford Station Abandonment Project and Request for Comments on Environmental Issues

December 1, 2005.

The staff of the Federal Energy Regulatory Commission (FERC or Commission) will prepare an environmental assessment (EA) that will discuss the environmental impacts of the Sanford Station Abandonment Project involving abandonment by removal of facilities by Colorado Interstate Gas Company (CIG) in Hutchinson County, Texas.¹ These facilities would consist of the abandonment by removal of three 880 horsepower (hp) reciprocal compressor units, and miscellaneous gas processing and sweetening facilities.² This EA will be used by the Commission in its decision-making process to determine whether the project is in the public convenience and necessity.

¹ CIG's application was filed with the Commission under section 7 of the Natural Gas Act and part 157 of the Commission's regulations.

² Gas “sweetening” refers to the processes utilized to remove impurities (primarily hydrogen sulfide and carbon dioxide) from certain natural gas supply streams.

This notice announces the opening of the scoping period that will be used to gather environmental input from the public and interested agencies on the project. Please note that the scoping period will close on January 3, 2006.

This notice is being sent to potentially affected landowners; federal, state, and local government agencies; elected officials; environmental and public interest groups; Native American Tribes; other interested parties; and local libraries and newspapers. State and local government representatives are asked to notify their constituents of this planned project and encourage them to comment on their areas of concern.

Summary of the Proposed Project

CIG wants to abandon by removal the following facilities at the Sanford Station in Hutchinson County, Texas:

• Three 880 hp reciprocal compressor units yielding a total of 2,640 hp.

• Miscellaneous gas processing and gas sweetening facilities.

CIG states that it no longer requires the Sanford Station for natural gas service, because the transportation arrangements supported by and through the Sanford Station and related facilities terminated several years ago. Since CIG has no further need for the Sanford Station, CIG proposed to abandon and demolish the Station, restore the site, and return the land to the landowner. CIG states that the abandonment project would be conducted in full compliance with all federal and state safety regulations including those of the U.S. Department of Transportation and the Texas Railroad Commission.

The location of the project facilities is shown in Appendix 1.³

³ The appendices referenced in this notice are not being printed in the Federal Register. Copies of all appendices, other than Appendix 1 (maps), are available on the Commission's Web site at the “eLibrary” link or from the Commission's Public Reference Room, 888 First Street, NE., Washington, DC 20426, or call (202) 502-8371. For instructions on connecting to eLibrary refer to the last page of this notice. Copies of the appendices were sent to all those receiving this notice in the mail.

Land Requirements for Construction

Abandonment of the proposed facilities would affect about 19 acres of land that are currently leased to CIG by the Sanford Texas Ranch, Inc., a private landowner. The fenced compressor and amine buildings, meter houses, and associated appurtenant facilities currently occupy the entire site. The abandonment activity would require the removal of jurisdictional facilities as well as associated non-jurisdictional facilities located within the fence line of the station property. CIG also proposes that the site be restored to pre-construction conditions, as near as practicable, and the land be returned to the landowner. At the termination of the lease, CIG and the landowner would require the property to be free of any and all facilities (with the exception of monitoring and/or remediation-related wells) and that there be no adverse environmental conditions related to the CIG facilities, except those that may require on-going remediation.

The EA Process

The National Environmental Policy Act (NEPA) requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA we ⁴ will discuss impacts that could occur as a result of the construction and operation of the proposed project under these general headings:

⁴ “We”, “us”, and “our” refer to the environmental staff of the Office of Energy Projects (OEP).

• Geology and soils

• Land use

• Water resources, fisheries, and wetlands

• Cultural resources

• Vegetation and wildlife

• Air quality and noise

• Endangered and threatened species

• Hazardous waste

• Public safety

We will also evaluate possible alternatives to portions of the project, and make recommendations on how to lessen or avoid impacts on the various resource areas.

Our independent analysis of the issues will be in the EA. Depending on the comments received during the scoping process, the EA may be published and mailed to federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation below.

Currently Identified Environmental Issues

We have already identified several issues that we think deserve attention based on a preliminary review of the proposed facilities and the environmental information provided by CIG and our staff. This preliminary list of issues may be changed based on your comments and our analysis.

• Five Federally listed endangered or threatened species may occur in the proposed project area.

• The Sanford Station is being reviewed by the State Historic Preservation Officer to determine whether the station should be considered a historic site.

• Soil and possible groundwater contamination may exist at the site. Investigations concluded that hydrocarbon, mercury, and polychlorinated biphenyls exist in the soils, and asbestos, and lead-based paint are present in the building materials.

Public Participation

You can make a difference by providing us with your specific comments or concerns about the project. By becoming a commentor, your concerns will be addressed in the EA and considered by the Commission. You should focus on the potential environmental effects of the proposal, alternatives to the proposal, and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 2.

• Reference Docket No. CP06-17-000.

• Mail your comments so that they will be received in Washington, DC on or before January 3, 2006.

The Commission strongly encourages electronic filing of any comments or interventions or protests to this proceeding. See 18 CFR 385.2001(a)(1)(iii) and the instructions on the Commission's Web site at http://www.ferc.gov under the “e-Filing” link and the link to the User's Guide. Before you can file comments you will need to create a free account which can be created online.

We may mail the EA for comment. If you are interested in receiving it, please return the Information Request (Appendix 3). If you do not return the Information Request, you will be taken off the mailing list.

Becoming an Intervenor

In addition to involvement in the EA scoping process, you may want to become an official party to the proceeding, or “intervenor.” To become an intervenor you must file a motion to intervene according to Rule 214 of the Commission's Rules of Practice and Procedure (18 CFR 385.214). Intervenors have the right to seek rehearing of the Commission's decision. Motions to Intervene should be electronically submitted using the Commission's eFiling system at http://www.ferc.gov. Persons without Internet access should send an original and 14 copies of their motion to the Secretary of the Commission at the address indicated previously. Persons filing Motions to Intervene on or before the comment deadline indicated above must send a copy of the motion to the Applicant. All filings, including late interventions, submitted after the comment deadline must be served on the Applicant and all other intervenors identified on the Commission's service list for this proceeding. Persons on the service list with e-mail addresses may be served electronically; others must be served a hard copy of the filing.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners whose property may be used temporarily for project purposes, or who own homes within distances defined in the Commission's regulations of certain aboveground facilities.

Additional Information

Additional information about the project is available from the Commission's Office of External Affairs, at 1-866-208-FERC or on the FERC Internet Web site (www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Magalie R. Salas,
Secretary.

[FR Doc. E5-7089 Filed 12-8-05; 8:45 am]

BILLING CODE 6717-01-P